DEPARTMENT OF HEALTH AND HUMAN SERVICES

Centers for Medicare & Medicaid Services

[Document Identifiers: CMS-10598 and CMS-10597]

Agency Information Collection Activities: Submission for OMB Review; Comment Request

AGENCY: Centers for Medicare & Medicaid Services HHS.

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

DATES: Comments on the collection(s) of information must be received by the OMB desk officer by November 14, 2016.

ADDRESSES: When commenting on the proposed information collections, please reference the document identifier or OMB control number. To be assured consideration, comments and recommendations must be received by the OMB desk officer via one of the following transmissions: OMB, Office of Information and Regulatory Affairs, Attention: CMS Desk Officer, Fax Number: (202) 395-5806 OR Email: OIRA_submission@omb.eop.gov.

To obtain copies of a supporting statement and any related forms for the proposed collection(s) summarized in this notice, you may make your request using one of following:

1. Access CMS' Web site address at http://www.cms.hhs.gov/PaperworkReductionActof1995.

2. Email your request, including your address, phone number, OMB number, and CMS document identifier, to Paperwork@cms.hhs.gov.

3. Call the Reports Clearance Office at (410) 786-1326.

FOR FURTHER INFORMATION CONTACT: Reports Clearance Office at (410) 786-1326.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: New collection of information; Title of Information Collection: Generic Clearance for Evaluation of Stakeholder Training—Health Insurance Marketplace and Market Stabilization Programs; Use: CMS is strongly committed to providing appropriate education and technical outreach to States, issuers, self-insured group health plans and third-party administrators (TPA) participating in the Marketplace and/or market stabilization programs mandated by the ACA. CMS continues to engage with stakeholders in the Marketplace to obtain input through Satisfaction Surveys following Stakeholder Training events. The survey results will help to determine stakeholders' level of satisfaction with trainings, identify any issues with training and technical assistance delivery, clarify stakeholders' needs and preferences, and define best practices for training and technical assistance. Forms being utilized for the 2017 Stakeholder Events have already been developed. CMS will continue to modify, enhance and develop forms for future years based on feedback from Stakeholders. Form Number: CMS-10598 (OMB control number: 0938-NEW); Frequency: Occasionally; Affected Public: Private Sector; Number of Respondents: 32,912; Number of Responses: 32,912; Total Annual Hours: 8,228. (For questions regarding this collection contact Sonia Henderson at 410-786-1631.)

2. Type of Information Collection Request: New collection (Request for a new OMB control number; Title of Information Collection: CMS Healthcare.gov Site Wide Online Survey; Use: The purpose of the survey is to gain an understanding of user experience, comprehension, and satisfaction with using the Federal Health Insurance Marketplace Web site established by the Affordable Care Act. The Marketplace provides coverage to uninsured Americans, as well as those already enrolled in Marketplace health insurance. One of the ways to purchase Marketplace insurance is through the online tools on HealthCare.gov. We have developed a survey to be administered to consumers while they are using the Web site. This survey is part of a continuing data collection program mandated by the ACA. It is designed to support the program goal to provide tools and information to help consumers to successfully find health insurance that they may not otherwise qualify for or find. Monitoring usability and the user experience through this ongoing survey provides the Web site developers with valuable information for use in continuous improvement of the Web site. The Web site survey is part of a larger research program to inform the development and enhancement of web tools for CMS programs such as the Health Insurance Marketplace. Form Number: CMS-10597 (OMB control number: 0938-New); Frequency: Weekly, Monthly, Occasionally; Affected Public: Individuals or Households; Number of Respondents: 14,000; Total Annual Responses: 14,000; Total Annual Hours: 933. (For policy questions regarding this collection contact Frank Funderburk at 410-786-1820.)

Dated: October 7, 2016.
William N. Parham, III,
Director, Paperwork Reduction Staff, Office of Strategic Operations and Regulatory Affairs.

[FR Doc. 2016-24814 Filed 10-13-16; 8:45 am]

BILLING CODE 4120-01-P